DEPARTMENT OF TRANSPORTATION

Federal Aviation Administration

14 CFR Part 39

[Docket No. FAA-2014-0753; Directorate Identifier 2014-NM-128-AD]

RIN 2120-AA64

Airworthiness Directives; Airbus Airplanes

AGENCY: Federal Aviation Administration (FAA), DOT.

ACTION: Notice of proposed rulemaking (NPRM).

SUMMARY: We propose to supersede Airworthiness Directive (AD) 2011-19-04, for all Airbus Model A318, A319, A320, and A321 series airplanes. AD 2011-19-04 currently requires repetitive inspections of the left-hand and right-hand inboard and outboard elevator servo-control rod eye-ends for cracking, and corrective actions if necessary. Since we issued AD 2011-19-04, we have determined that certain elevator servo-control parts that do not conform to the approved type design have been installed and may have the potential of cracks in the rod eye-end. This proposed AD would also require an inspection to determine if certain elevator servo-control parts are installed, and replacement if necessary. We are proposing this AD to detect and correct rod eye-end cracking, which could result in an uncontrolled elevator surface and consequent reduced control of the airplane.

DATES: We must receive comments on this proposed AD by December 5, 2014.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0753; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2014-0753; Directorate Identifier 2014-NM-128-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On September 7, 2011, we issued AD 2011-19-04, Amendment 39-16809 (76 FR 57630, September 16, 2011). AD 2011-19-04 requires actions intended to address an unsafe condition on all Airbus Model A318, A319, A320, and A321 series airplanes. AD 2011-19-04 superseded AD 2009-17-04, Amendment 39-15995 (74 FR 41611, August 18, 2009).

Since we issued AD 2011-19-04, Amendment 39-16809 (76 FR 57630, September 16, 2011), the European Aviation Safety Agency (EASA), which is the Technical Agent for the Member States of the European Community, has issued EASA Airworthiness Directive 2014-0137, dated May 28, 2014 (referred to after this as the Mandatory Continuing Airworthiness Information, or “the MCAI”), to correct an unsafe condition for all Model A318, A319, A320, and Model A321 series airplanes. The MCAI states:

One case of elevator servo-control disconnection was reported on an A320 family aeroplane. Investigation results revealed that the failure occurred at the servo-control rod eye-end. Prompted by this finding, additional inspections revealed cracking at the same location on a number of other servo-control rod eye-ends. In several cases, both actuators of the same elevator surface were affected.

It was determined that the detected rod end cracks are caused by fatigue, induced by a bending effect which is linked to the spherical bearing rotational torque. As the elevator surface is neither actuated nor damped, a dual servo-control disconnection on the same elevator would result in an uncontrolled surface.

This condition, if not corrected, could result in reduced control of the aeroplane.

To address this potential unsafe condition, EASA issued [an airworthiness directive (later revised)] [which corresponds to FAA AD 2009-17-04, Amendment 39-5995 (74 FR 41611, August 18, 2009)] to require a one-time inspection of the elevator servo-control rod eye-ends for aeroplanes which had accumulated more than 10,000 flight cycles (FC) since aeroplane first flight and, in case of findings, accomplishment of corrective actions.

As a result of EASA AD 2008-0149, a significant number of rod eye-ends were found cracked. In addition, some cracks were reported on rod eye-ends that had not yet accumulated the 10,000 FC of the established threshold.

Prompted by these findings, EASA issued [an airworthiness directive (later revised)] [which corresponds to FAA AD 2011-19-04, Amendment 39-16809 (76 FR 57630, September 16, 2011)], which partially retained the initial inspection requirement of EASA AD 2008-0149, which was superseded, reduced the compliance time of the initial inspection and introduced a repetitive inspection programme.

After EASA AD 2010-0046R1 (http://ad.easa.europa.eu/blob/easa_ad_2010_0046_R1_superseded.pdf/AD_2010-0046R1_1) was issued, a new elevator servo-control rod eye-end was developed, incorporating a re-greasable roller bearing.

Consequently, EASA issued [EASA] AD 2013-0309 (later corrected) (http://ad.easa.europa.eu/blob/easa_ad_2013_0309_superseded.pdf/AD_2013-0309_1), retaining the requirements of EASA AD 2010-0046R1, which was superseded, and introduced an optional terminating action for the repetitive inspections by replacing the existing elevator servo-control rod eye-ends with the new elevator servo-control rod eye-end. In addition, that [EASA] AD prohibited, for aeroplanes that incorporate this optional modification, (re)installation of unmodified elevator servo-controls.

At the time that EASA AD 2013-0309 was issued, it was planned that Airbus would proceed with the certification of certain elevator servo-controls, Part Number (P/N) 31075-0xx, P/N 31075-1xx and P/N 31075-3xx (originally certified only for installation on Model A320-111 aeroplanes, which are no longer in service), to allow installation of those parts on other A320 family aeroplane Models.

Since that [EASA] AD was issued, Airbus decided not to progress with certification of the affected elevator servo-controls for installation on other Models.

For the reason described above, and because of evidence that such parts remain available as spares in the field, this [EASA] AD retains the requirements of EASA AD 2013-0309, which is superseded, and adds a prohibition to install the affected elevator servo-controls that were only intended for A320-111 aeroplanes.

This proposed AD would require an inspection to determine whether any elevator control part having P/N 31075-0xx, 31075-1xx, or 31075-3xx is installed and replacement if necessary. You may examine the MCAI in the AD docket on the Internet at http://www.regulations.gov by searching for and locating Docket No. FAA-2014-0753.

Relevant Service Information

Airbus has issued Service Bulletin A320-27-1223, dated September 3, 2013. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

The MCAI does not include an action for airplanes installed with elevator control parts having part number (P/N) 31075-0xx, 31075-1xx, or 31075-3xx. This proposed AD would require an inspection to determine if those elevator servo-control parts are installed, and replacement if necessary.

Costs of Compliance

We estimate that this proposed AD affects 851 airplanes of U.S. registry.

The actions that are required by AD 2011-19-04, Amendment 39-16809 (76 FR 57630, September 16, 2011), and retained in this proposed AD take about 25 work-hours per product, at an average labor rate of $85 per work-hour. Based on these figures, the estimated cost of the actions that are required by AD 2011-19-04 is $2,125 per product.

We also estimate that it would take about 14 work-hours per product to comply with the basic requirements of this proposed AD. The average labor rate is $85 per work-hour. Based on these figures, we estimate the cost of this proposed AD on U.S. operators to be $1,012,690, or $1,190 per product.

In addition, we estimate that any necessary follow-on actions would take about 2 work-hours and require parts costing $4,000, for a cost of $4,170 per product. We have no way of determining the number of aircraft that might need this action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2011-19-04, Amendment 39-16809 (76 FR 57630, September 16, 2011), and adding the following new AD:

Airbus: Docket No. FAA-2014-0753; Directorate Identifier 2014-NM-128-AD.

(a) Comments Due Date

We must receive comments by December 5, 2014.

(b) Affected ADs

This AD replaces AD 2011-19-04, Amendment 39-16809 (76 FR 57630, September 16, 2011).

(c) Applicability

This AD applies to the Airbus airplanes identified in paragraphs (c)(1) through (c)(4) of this AD, certificated in any category, all manufacturer serial numbers.

(1) Airbus Model A318-111, -112, -121, and -122 airplanes.

(2) Airbus Model A319-111, -112, -113, -114, -115, -131, -132, and -133 airplanes.

(3) Airbus Model A320-211, -212, -214, -231, -232, and -233 airplanes.

(4) Airbus Model A321-111, -112, -131, -211, -212, -213, -231, and -232 airplanes.

(d) Subject

Air Transport Association (ATA) of America Code 27, Flight Controls.

(e) Reason

This AD was prompted by a determination that certain elevator servo-control parts that do not conform to the approved type design have been installed and may have the potential of cracks in the rod eye-end. We are issuing this AD to detect and correct rod eye-end cracking, which could result in uncontrolled elevator surface and consequent reduced control of the airplane.

(f) Compliance

Comply with this AD within the compliance times specified, unless already done.

(g) Retained Inspections

This paragraph restates the requirements of paragraph (g) of AD 2011-19-04, Amendment 39-16809 (76 FR 57630, September 16, 2011), with no changes.

(1) At the applicable times specified in paragraphs (g)(1)(i) and (g)(1)(ii) of this AD: Inspect both the left-hand and right-hand inboard elevator servo-control rod eye-ends for cracking, in accordance with the instructions of Airbus All Operators Telex (AOT) A320-27A1186, Revision 04, dated April 3, 2009; or the Accomplishment Instructions of Airbus Service Bulletin A320-27A1186, Revision 07, dated March 2, 2011. As of October 21, 2011 (the effective date of AD 2011-19-04, Amendment 39-16809 (76 FR 57630, September 16, 2011)), use Airbus Service Bulletin A320-27A1186, Revision 07, dated March 2, 2011.

(i) For airplanes that have accumulated 10,000 total flight cycles or more as of September 22, 2009 (the effective date of AD 2009-17-04, Amendment 39-15995 (74 FR 41611, August 18, 2009)): At the later of the times specified in paragraphs (g)(1)(i)(A) and (g)(1)(i)(B) of this AD.

(A) Within 1,500 flight cycles after September 22, 2009 (the effective date of AD 2009-17-04, Amendment 39-15995 (74 FR 41611, August 18, 2009)).

(B) Within 1,500 flight cycles after accumulating 10,000 total flight cycles since first flight of the airplane.

(ii) For airplanes that have accumulated less than 10,000 total flight cycles as of September 22, 2009 (the effective date of AD 2009-17-04, Amendment 39-15995 (74 FR 41611, August 18, 2009)): At the later of the times specified in paragraphs (g)(1)(ii)(A) and (g)(1)(ii)(B) of this AD.

(A) Before the accumulation of 5,000 total flight cycles.

(B) Within 20 months after October 21, 2011 (the effective date of AD 2011-19-04, Amendment 39-16809 (76 FR 57630, September 16, 2011)) but no later than before the accumulation of 11,500 total flight cycles.

(2) At the applicable time specified in paragraphs (g)(2)(i) and (g)(2)(ii) of this AD: Inspect both the left-hand and right-hand outboard elevator servo-control rod eye-ends for cracking, in accordance with the instructions of Airbus AOT A320-27A1186, Revision 04, dated April 3, 2009; or the Accomplishment Instructions of Airbus Service Bulletin A320-27A1186, Revision 07, dated March 2, 2011. As of October 21, 2011 (the effective date of AD 2011-19-04, Amendment 39-16809 (76 FR 57630, September 16, 2011)), use Airbus Service Bulletin A320-27A1186, Revision 07, dated March 2, 2011.

(i) For airplanes that have accumulated 10,000 total flight cycles or more as of September 22, 2009 (the effective date of AD 2009-17-04, Amendment 39-15995 (74 FR 41611, August 18, 2009)): At the later of the times specified in paragraphs (g)(2)(i)(A) and (g)(2)(i)(B) of this AD.

(A) Within 3,000 flight cycles after September 22, 2009 (the effective date of AD 2009-17-04, Amendment 39-15995 (74 FR 41611, August 18, 2009)).

(B) Within 3,000 flight cycles after accumulating 10,000 total flight cycles since first flight of the airplane.

(ii) For airplanes that have accumulated less than 10,000 total flight cycles as of September 22, 2009 (the effective date of AD 2009-17-04, Amendment 39-15995 (74 FR 41611, August 18, 2009)): At the later of the times specified in paragraphs (g)(2)(ii)(A) and (g)(2)(ii)(B) of this AD.

(A) Before the accumulation of 7,500 total flight cycles.

(B) Within 40 months after October 21, 2011 (the effective date of AD 2011-19-04, Amendment 39-16809 (76 FR 57630, September 16, 2011)) but no later than before the accumulation of 13,000 total flight cycles.

(h) Retained Repetitive Inspections

This paragraph restates the requirements of paragraph (h) of AD 2011-19-04, Amendment 39-16809 (76 FR 57630, September 16, 2011), with no changes. Repeat the inspections of the left-hand and right-hand inboard and outboard elevator servo-control rod eye-ends for cracking as required by paragraphs (g)(1) and (g)(2) of this AD at the later of the times specified in paragraph (h)(1) or (h)(2) of this AD. Repeat the inspections thereafter at intervals not to exceed 5,000 flight cycles.

(1) Within 5,000 flight cycles after the last inspection required by paragraph (g)(1) or (g)(2) of this AD as applicable.

(2) Within 6 months after October 21, 2011 (the effective date of AD 2011-19-04, Amendment 39-16809 (76 FR 57630, September 16, 2011)).

(i) Retained Corrective Actions

This paragraph restates the requirements of paragraph (i) of AD 2011-19-04, Amendment 39-16809 (76 FR 57630, September 16, 2011), with no changes. If any cracking is found during any inspection required by paragraph (g) or (h) of this AD, before further flight, accomplish all applicable corrective actions, in accordance with the Accomplishment Instructions and figures of Airbus Service Bulletin A320-27A1186, Revision 07, dated March 2, 2011.

(j) Retained Parts Limitation for Elevator Servo-Control Rod Eye-Ends

This paragraph restates the requirements of paragraph (j) of AD 2011-19-04, Amendment 39-16809 (76 FR 57630, September 16, 2011), with a new exception. As of October 21, 2011 (the effective date of AD 2011-19-04, Amendment 39-16809 (76 FR 57360, September 16, 2011)), and except as required by paragraph (p) of this AD, no person may install on any airplane an elevator servo-control rod eye-end unless it is new or has been inspected in accordance with the Accomplishment Instructions of Airbus Service Bulletin A320-27A1186, Revision 07, dated March 2, 2011, with no crack findings.

(k) New Requirement of This AD: Inspection To Determine Part Numbers

As of the effective date of this AD: At the later of the times specified in paragraphs (k)(1) and (k)(2) of this AD, do an inspection to determine whether any elevator control part having part number (P/N) 31075-0xx, 31075-1xx, or 31075-3xx is installed. A review of airplane maintenance records is acceptable in lieu of this inspection if the part numbers of the elevator control parts can be conclusively determined from that review.

(1) Concurrently with the accomplishment of the next inspection required by paragraph (g) or (h) of this AD.

(2) Within 30 days after the effective date of this AD.

(l) New Requirement of This AD: Replacement of Certain Parts

If the inspection required by paragraph (k) of this AD reveals that any elevator servo-controls having P/Ns 31075-0xx, 31075-1xx, or 31075-3xx are installed: Before further flight, do the actions specified in paragraph (l)(1) or (l)(2) of this AD.

(1) Replace all elevator servo-controls having P/N 31075-0xx, 31075-1xx, or 31075-3xx with parts having P/N 31075-2xx or 31075-4xx, as applicable, using a method approved by the Manager, International Branch, ANM-116, Transport Airplane Directorate, FAA; or the European Aviation Safety Agency (EASA); or Airbus's EASA Design Organization Approval (DOA).

(2) Replace all elevator servo-controls having P/N 31075-0xx, 31075-1xx, or 31075-3xx with serviceable parts having P/N 31075-6xx or 31075-8xx, as applicable, in accordance with the Accomplishment Instruction of Airbus Service Bulletin A320-27-1223, dated September 3, 2013, or Goodrich Service Bulletin 31075-27-22, dated July 2, 2013. Serviceable parts are those that have been inspected for cracks in the rod eye-ends without any crack findings in accordance with the Accomplishment Instructions of Airbus Service Bulletin A320-27A1186, Revision 07, dated March 2, 2011.

(m) New Optional Terminating Action for Certain Inspections

Modification of an airplane by replacing all 4 elevator servo-control rod eye-ends with modified (i.e. re-greasable) parts, and re-identification of those elevator servo-controls to P/N 31075-6xx or P/N 31075-8xx, as applicable, in accordance with the Accomplishment Instructions of Airbus Service Bulletin A320-27-1223, dated September 3, 2013; constitutes terminating action for the requirements of paragraphs (g), (h), (k), and (l) of this AD.

Note 1 to paragraph (m) of this AD: Maintenance Review Board Report task reference 27.34.00/06 is applicable to elevator servo-controls having P/N 31075-6xx or P/N 31075-8xx.

(n) New Exception to Certain Inspections

Airplanes on which Airbus modification 154554 (installation of servo-controls having P/N 31075-6xx or P/N 31075-8xx, fitted with modified rod eye-end roller bearing) has been embodied in production are not affected by the requirements of paragraphs (g), (h), (k), and (l) of this AD, provided that no elevator servo-control having P/N 31075-0xx, or P/N 31075-1xx, or P/N 31075-2xx, or P/N 31075-3xx, or P/N 31075-4xx, fitted with rod-end assembly P/N 341203-xxx, has been reinstalled since first flight.

(o) Credit for Previous Actions

(1) This paragraph restates the credit specified in paragraph (k) of AD 2011-19-04, Amendment 39-16809 (76 FR 57630, September 16, 2011).

(i) This paragraph provides credit for actions required by paragraphs (g)(1) and (g)(2) of this AD, if those actions were performed before October 21, 2011 (the effective date of AD 2011-19-04, Amendment 39-16809 (76 FR 57630, September 16, 2011)), using the service information specified in table 1 to paragraph (o)(1)(i) of this AD.

Table 1 to Paragraph (o)(1)(i) of This AD—Credit Service Information for Paragraph (g) of This AD
Airbus AOT— | Revision— | Dated—
A320-27A1186 | Original | June 23, 2008.
A320-27A1186 | 01 | August 11, 2008.
A320-27A1186 | 02 | March 30, 2009.
A320-27A1186 | 03 | April 1, 2009.
A320-27A1186 | 04 | April 3, 2009.

(ii) This paragraph provides credit for actions required by paragraph (h) of this AD, if those actions were performed before October 21, 2011 (the effective date of AD 2011-19-04, Amendment 39-16809 (76 FR 57630, September 16, 2011)), using Airbus Service Bulletin A320-27A1186, Revision 05, dated March 10, 2010; or Airbus Service Bulletin A320-27A1186, Revision 06, dated December 14, 2010.

(2) This paragraph provides credit for actions required by paragraph (i) of this AD, if those actions were performed before October 21, 2011 (the effective date of AD 2011-19-04, Amendment 39-16809 (76 FR 57630, September 16, 2011)), using Airbus Service Bulletin A320-27A1186, Revision 06, dated December 14, 2010.

(p) New Parts Installation Prohibition

(1) As of the effective date of this AD, no person may install on any airplane an elevator servo-control having P/N 31075-0xx, 31075-1xx, or 31075-3xx.

(2) No person may install on any airplane an elevator servo-control having P/N 31075-2xx or P/N 31075-4xx, or an elevator servo-control rod eye-end having P/N 341203 or P/N 341203-XXX, as required by paragraphs (p)(2)(i) and (p)(2)(ii) of this AD, as applicable.

(i) For airplanes that do not have Airbus Modification 154554 embodied in production: After optional modification of the airplane as specified in paragraph (m) of this AD.

(ii) For airplanes on which Airbus Modification 154554 has been embodied in production: As of the effective date of this AD.

(q) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2011-19-04, Amendment 39-16809 (76 FR 57630, September 16, 2011), are approved as AMOCs for the corresponding provisions of this AD.

(2) Contacting the Manufacturer: For any requirement in this AD to obtain corrective actions from a manufacturer, the action must be accomplished using a method approved by the Manager, International Branch, ANM-116, Transport Airplane Directorate, FAA; or EASA; or Airbus's EASA Design Organization Approval (DOA). If approved by the DOA, the approval must include the DOA-authorized signature.

(r) Related Information

(1) Refer to Mandatory Continuing Airworthiness Information (MCAI) EASA Airworthiness Directive 2014-0137, dated May 28, 2014, for related information. This MCAI may be found in the AD docket on the Internet at http://www.regulations.gov by searching for and locating Docket No. FAA-2014-0753.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on October 13, 2014.
Michael Kaszycki,
Acting Manager, Transport Airplane Directorate, Aircraft Certification Service.

[FR Doc. 2014-25023 Filed 10-20-14; 8:45 am]

BILLING CODE 4910-13-P